DEPARTMENT OF HEALTH AND HUMAN SERVICES

Centers for Disease Control and Prevention

CDC and ATSDR Use of the SF-424 Research and Related Forms (Application Packages) in Grants.gov and the eRA Commons

AGENCY: Centers for Disease Control and Prevention (CDC), Department of Health and Human Services.

ACTION: Notice.

Purpose

NIH's electronic Research Administration (eRA) periodically implements updated versions of the federal grant application forms in order to remain current with the most recent Office of Management and Budget approved form sets available through Grants.gov. CDC and other agencies serviced by eRA use the `Competition ID' field of Grants.gov application packages for quick and easy identification of the forms being used for a particular Funding Opportunity Announcement or individual application package.

The purpose of this Federal Register Notice is to alert applicants that CDC is transitioning to the updated electronic application forms packages entitled “SF-424 Research and Related (R&R) forms.” The new packages will identify the Competition ID of “FORMS-C” and will include the form changes documented at http://grants.nih.gov/grants/ElectronicReceipt/files/FORMS-C_Changes.pdf.

For due dates on or after September 25, 2013, all applicants will be required to use FORMS-C packages, with the exceptions noted below. The requirement includes electronic applications submitted under the continuous submission policy, administrative supplement requests, change of organization requests, and change of grantee/training institution requests submitted September 25, 2013 and beyond. Multi-project applications that are transitioning to electronic submission beginning with the September 25, 2013 due dates (see the NIH Guide Notice NOT-OD-13-075) will also use FORMS-C packages.

Exceptions

The programs noted below will move to FORMS-C application packages as follows:

• Individual Research Career Development Award Programs (Ks), Institutional Training and Career Development Programs (Ts and Ds) and Individual National Research Service Awards (Fs) applicants will be required to use FORMS-C packages for due dates on or after January 25, 2014.

• Small Business programs (SBIR/STTR) applicants will transition to FORMS-C packages later in 2014, so that anticipated form changes relating to the Small Business Authorization Act can be incorporated.

Instructions

• If presented with more than one forms package, applicants should download and use the most recent set of forms to complete their submission.

• Verify you have the correct application package by checking the Competition ID field for FORMS-C. The Competition ID field can be found when downloading the application package from Grants.gov, in the application header information of the downloaded package or in FOA summary information for multi-project applications.

• Learn more about choosing the correct forms packages at: http://grants.nih.gov/grants/ElectronicReceipt/files/right_forms.pdf.

• All applicants should carefully read their FOA and the appropriate “C Series” Application Guide for program-specific instructions before completing their application.

Inquiries

Please direct all inquiries to: Technical Information Management Section, Procurement and Grants Office, Centers for Disease Control and Prevention, Telephone: 770-488-2700, Email: pgotim@cdc.gov.

Dated: July 26, 2013.
William P. Nichols,
Director, Procurement and Grants Office, Centers for Disease Control and Prevention.

[FR Doc. 2013-18608 Filed 8-1-13; 8:45 am]

BILLING CODE 4163-18-P